DEPARTMENT OF THE INTERIOR

National Park Service

[NPS-WASO-NAGPRA-NPS0030664; PPWOCRADN0-PCU00RP14.R50000]

Notice of Inventory Completion: Bishop Museum of Science and Nature Inc., Bradenton, FL

AGENCY: National Park Service, Interior.

ACTION: Notice.

SUMMARY: The Bishop Museum of Science and Nature Inc., has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Bishop Museum of Science and Nature, Inc. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Bishop Museum of Science and Nature Inc. at the address in this notice by September 21, 2020.

ADDRESSES: Matthew D. Woodside, Chief Curator, Bishop Museum of Science and Nature Inc., P.O. Box 9265, Bradenton, FL 34205, telephone (941) 216-3477, email mwoodside@bishopscience.org.

SUPPLEMENTARY INFORMATION: Notice is here given in accordance with the Native American Graves Protection and Repatriation Act (NAGPRA), 25 U.S.C. 3003, of the completion of an inventory of human remains under the control of the Bishop Museum of Science and Nature Inc., Bradenton, FL. The human remains were removed from Collier, Glades, Levy, Manatee, and Sarasota Counties, FL, and from unknown counties in the State of Florida.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Bishop Museum of Science and Nature Inc. professional staff, along with Laura Van Voorhis of the Bone Chemistry Lab and C.A. Pound Human ID Lab, Department of Anthropology, University of Florida, in consultation with representatives of the Miccosukee Tribe of Indians; Poarch Band of Creeks (previously listed as Poarch Band of Creek Indians of Alabama); Seminole Tribe of Florida (previously listed as Seminole Tribe of Florida (Dania, Big Cypress, Brighton, Hollywood & Tampa Reservations)); The Muscogee (Creek) Nation; The Seminole Nation of Oklahoma; and the Thlopthlocco Tribal Town (hereafter referred to as “The Tribes”).

History and Description of the Remains

Over the course of his adult life, Manatee County, FL, resident Walter Montague Tallant (1892-1963) collected Native American objects and human remains that are now under the control of the Bishop Museum of Science and Nature. Mr. Tallant moved to Manatee County in 1905, when his family relocated from Christiansburg, VA, and began collecting Native American objects. In 1935, some of the objects were displayed at the Manatee County Chamber of Commerce offices, then located in the Memorial Pier building in Bradenton, FL. In 1946, Mr. Tallant sold a portion of his collection, which we believe included human remains, to the Manatee Junior Chamber of Commerce. This collection led to the creation of the South Florida Museum on December 23, 1946, as a 501(C)3 non-profit institution. In April 2019, the South Florida Museum was renamed the Bishop Museum of Science and Nature.

In 1966, after completion of a new museum building, the collection was relocated to the new facility. From 1966 through 1990, additional human remains were given to the Museum by unknown individuals who had removed them from a number of locations, including 20 known pre-Contact occupation areas in Manatee and surrounding counties, such as temple or platform mounds of the Safety Harbor and Weeden Island Culture Periods. In 2016, Laura Van Voorhis of the Bone Chemistry Lab and C.A. Pound Human ID Lab in the Department of Anthropology at the University of Florida, working with Museum staff, inspected and assessed the human remains and assisted Museum staff in preparing an inventory and osteology report.

At an unknown date, human remains representing, at minimum, one individual were removed from “Lake Tafford” in Collier County, FL. The human remains consist of one partial cranium belonging to an adult of unknown sex. The cranium is inscribed “4-2-89,” “W.C.C.,” and “Lake Tafford, Collier County.” No known individual was identified. No associated funerary objects are present.

“Lake Tafford” likely refers to the Lake Trafford Burial Mound (8CR80) located west of Lake Trafford in Collier County. The mound is part of a complex of 19 mounds; the other 18 mounds are non-mortuary. Ceramic types found at the site indicate a Late Woodland Period (A.D. 500-1000) occupation, while Safety Harbor Incised and Fort Walton Incised ceramics, and a number of gold objects indicate activity during the Mississippian Period and early Historic Period (A.D. 900-1700).

In 1939, human remains representing, at minimum, three individuals were removed from “Green Tree Mound” in Glades County, FL. One partial cranium is inscribed “5-13-39 WCC” and two partial crania are inscribed “WCC” and “2-13-39 WCC.” All three individuals are adults of unknown sex. No known individuals were identified. No associated funerary objects are present. The “Green Tree Mound” could not be found in the Florida Master Site File (FMSF) administered by the Florida Department of State, Bureau of Historic Preservation, Division of historical Resources.

At an unknown date, but probably 1938, human remains representing, at minimum, two individuals were removed from “Shell Mound” in Levy County, FL. One complete cranium is inscribed “Shell Mound” and “1-12-38, W.C.C,” and a partial cranium is inscribed “Shell Mound”. Both individuals are adults of unknown sex. No known individuals were identified. No associated funerary objects are present.

As archeological excavations at Shell Mound (8LV42) have not located any human remains, these human remains are probably from the nearby Palmetto Mound (8LV2), also known as the Culpepper site, Palmetto Island, Pine Key Mound, Rattlesnake Island, Graveyard Island, and Hog Island. Walter Montague Tallant's journal and photograph albums indicate he removed objects from Palmetto Mound in the late 1930s. Palmetto Mound dates to 700 B.C.—A.D. 1300, based on radiocarbon dates and pottery types.

In the 1980s, and possibly earlier, human remains representing, at minimum, seven individuals were removed from “Snead Island Mound” or “Snead's Island” in Manatee County, FL. On September 14,1989, Mrs. A.W. Pervis, Jr. donated one fragmented, complete skull belonging to an adult male and tibia and femur remains from “Snead's Island” to the Museum. The sites Snead Island 1 (8MA18), Snead Island III (8MA20), Snead Island Burial Mound (8MA85), and possibly Emerson Point (8MA1137) have been reported to contain human remains. Walter Montague Tallant is reported to have excavated at 8MA18 and 8MA85. Based on artifact types, the earliest occupation of 8MA18 predated A.D. 700 and continued into the Historic Period. Stokes Brushed pottery associated with the Seminoles was found at 8MA18, and a fish camp that employed Cubans and Seminoles reportedly operated there in the 1840s. The 8MA85 site is described as a sand burial mound with plain, non-diagnostic pottery.

At an unknown date, but probably 1937, human remains representing, at minimum, three individuals were removed from “Tidy Island” in Manatee County, FL. Walter Montague Tallant is believed to have excavated five or six human remains from two burial mounds on Tidy Island in 1937. The human remains include one incomplete cranium belonging to an adult of unknown sex, one radius, and two incomplete crania belonging to adults of unknown sex. No known individuals were identified. No associated funerary objects are present. The Cow Point Midden (8MA12) on Tidy Island is the likely source of these human remains. The site contains a shell midden and two burial mounds. It is dated to approximately 500 B.C.—A.D. 800 or later, based on the ceramics.

In 1938, human remains representing, at minimum, one individual were removed from “Treasure Island” in Sarasota County, FL. One incomplete cranium belonging to an adult of unknown sex and inscribed “1938, W.C.C” was given to the Museum by an unknown person at an unknown date. No known individual was identified. No associated funerary objects are present. The “Treasure Island” site in Sarasota County might actually be the John's Pass Mound (8PI4) on Treasure Island in Pinellas County, a burial mound dated to the Safety Harbor Period (A.D. 900—1700).

At an unknown date, human remains representing, at minimum, one individual were removed from “Phillippi Creek.” One complete cranium belonging to an adult of unknown sex was given to the Museum by an unknown person at an unknown date. No known individual was identified. No associated funerary objects are present. According to the FMSF, two archeological sites are reported along the Phillippi Creek in Sarasota County. However, neither the Phillippi Flake Scatter (8SO616) nor the Prodie Midden Site (8SO617) is known to contain human remains.

At an unknown date, human remains representing, at minimum, one individual were removed from “Riverview Landing.” One frontal belonging to an adult, probably male, as well as other teeth and human remains were given to the Museum by an unknown person at an unknown date. No known individual was identified. No associated funerary objects are present. Riverview Pointe in Manatee County may be the general location where the human remains were removed. The Riverview Pointe Midden (8MA981) contains no human remains, unlike the nearby Shaw's Point (8MA7) site. The latter site reportedly contains early Deptford, Weeden Island, Safety Harbor, and Leon-Jefferson pottery from the Early Woodland to early Historic Period (ca. 500 B.C.-A.D. 1700).

At an unknown date, human remains representing, at minimum, three individuals were removed from “Midway Island” in Collier County, FL. On January 15, 2013, one complete skull belonging to an adult male and marked “Coll Co 1961” and three mandibles were placed under the control of the Museum by Mrs. Patty Tallant Hare, Walter Montague Tallant's daughter. No known individuals were identified. No associated funerary objects are present. The “Midway Island” site could not be found in the FMSF.

At an unknown date, human remains representing, at minimum, 46 individuals were removed by unknown persons from unknown counties in the State of Florida. The Museum does not possess any accession information for these remains. No known individuals were identified. No associated funerary objects are present.

Determinations Made by the Bishop Museum of Science and Nature Inc.

Officials of the Bishop Museum of Science and Nature Inc. have determined that:

• Pursuant to 25 U.S.C. 3001(9), the human remains described in this notice represent the physical remains of 68 individuals of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Matthew D. Woodside, Chief Curator, Bishop Museum of Science and Nature Inc., P.O. Box 9265, Bradenton, FL 34205, telephone (941) 216-3477, email mwoodside@bishopscience.org, by September 21, 2020. After that date, if no additional requestors have come forward, transfer of control of the human remains to The Tribes may proceed.

The Bishop Museum of Science and Nature Inc. is responsible for notifying The Tribes that this notice has been published.

Dated: July 21, 2020.
Melanie O'Brien,
Manager, National NAGPRA Program.

[FR Doc. 2020-18235 Filed 8-19-20; 8:45 am]

BILLING CODE 4312-52-P